DEPARTMENT OF COMMERCE

International Trade Administration

[A-533-808]

Stainless Steel Wire Rods From India: Final Results and Partial Rescission of Antidumping Duty Administrative Review

AGENCY: Import Administration, International Trade Administration, U.S. Department of Commerce.

ACTION: Notice of final results and partial rescission of antidumping duty administrative review of stainless steel wire rods from India.

SUMMARY: On January 8, 2003, the Department of Commerce (“the Department”) published in the Federal Register the preliminary results of its administrative review of the antidumping duty order on stainless steel wire rods from India. See Stainless Steel Wire Rods From India: Preliminary Results and Partial Rescission of Antidumping Duty Administrative Review, 68 FR 1040 (January 8, 2003) (“Preliminary Results”). This review covers the Viraj Group Ltd., (“Viraj Group”), Panchmahal Steel Limited (“Panchmahal”), and Mukand Limited (“Mukand”), manufacturers and exporters of subject merchandise to the United States. Isibars Limited (“Isibars”) was originally a respondent in this review, but the Department rescinded the review of Isibars when petitioner, being the only party to request the review of Isibars, withdrew its request for review. See Preliminary Results. The period of review is December 1, 2000 through November 30, 2001.

Based on our analysis of the comments received, we have made changes from the preliminary results of review. Therefore, the final results differ from the Preliminary Results of review with respect to the weighted-average dumping margin for the Viraj Group and Mukand. The final weighted-average dumping margin for the reviewed firms is listed below in the section entitled “Final Results of the Review.”

EFFECTIVE DATE: May 15, 2003.

FOR FURTHER INFORMATION CONTACT: Stephen Bailey (Viraj Group, Isibars, and Panchmahal) and Jonathan Herzog (Mukand), Import Administration, International Trade Administration, U.S. Department of Commerce, 14th and Constitution Avenue, N.W., Washington, D.C. 20230; telephone: 202-482-1102, or 202-482-4271, respectively.

SUPPLEMENTARY INFORMATION:

Background

On January 8, 2003, the Department published in the Federal Register the preliminary results and partial rescission of its administrative review of the antidumping duty order on stainless steel wire rods from India. See Preliminary Results. We invited parties to comment on our preliminary results of review. We received case briefs from Panchmahal on February 14, 2003, referencing arguments made in its submissions to the Department dated January 6, 2003 and January 13, 2003. On February 11, 2003, Kurt Orban Partners LLC (“Kurt Orban”), an interested party, submitted a case brief. Pursuant to a request from the Department to redact new information, Kurt Orban resubmitted its case brief on March 13, 2003. We received Mukand's case briefs on January 13, 2003, and February 14, 2003. We received the Viraj Group's case brief on February 14, 2003. We received petitioner's case briefs addressing Mukand and the Viraj Group on February 14, 2003. On February 24, 2003, we received rebuttal briefs from the Viraj Group and from petitioner addressing the arguments presented by Panchmahal, Mukand, and the Viraj Group. Pursuant to 19 CFR 351.309(c)(ii), the Department directed the Viraj Group to resubmit their brief and omit certain arguments that were not raised in a timely manner. See the Department's letter dated March 26, 2003 rejecting the Viraj Group's case brief. The Viraj Group resubmitted their case brief on March 31, 2003. On April 15, 2003, Kurt Orban met with the Department to discuss Panchmahal's cost reconciliation. See the Department's memorandum to the file dated April 16, 2003. We have now completed the administrative review in accordance with section 751 of the Tariff Act of 1930, as amended (“the Act”).

Scope of Review

The merchandise under review is certain stainless steel wire rods (“SSWR”), which are hot-rolled or hot-rolled annealed and/or pickled rounds, squares, octagons, hexagons or other shapes, in coils. SSWR are made of alloy steels containing, by weight, 1.2 percent or less of carbon and 10.5 percent or more of chromium, with or without other elements. These products are only manufactured by hot-rolling and are normally sold in coiled form, and are of solid cross section. The majority of SSWR sold in the United States are round in cross-section shape, annealed and pickled. The most common size 5.5 millimeters in diameter.

The SSWR subject to this review are currently classifiable under subheadings 7221.00.0005, 7221.00.0015, 7221.00.0030, 7221.00.0045, and 7221.00.0075 of the Harmonized Tariff Schedule of the United States (HTSUS). Although the HTSUS subheadings are provided for convenience and customs purposes (as of March 1, 2003, renamed the U.S. Bureau of Customs and Border Protection), the written description of the merchandise under review is dispositive of whether or not the merchandise is covered by the review.

Rescission of Review

In our preliminary results, we stated we are rescinding the review with respect to Isibars because petitioner, the only party to request a review for Isibars, withdrew its request for review. See Preliminary Results. Consequently, in accordance with 19 CFR 351.213(d)(1) and consistent with the Department's practice, we preliminarily rescinded our review with respect to Isibars. Since we have received no new information since the preliminary results that contradicts the decision made in the preliminary results of review, we are rescinding the administrative review with respect to Isibars.

Facts Available

In the instant review, for the preliminary results, the Department applied adverse facts available in accordance with section 776(a) of the Act to Panchmahal because Panchmahal failed to provide or withheld information the Department requested. See Preliminary Results. The Department received inadequate responses to the questionnaire and multiple supplemental questionnaires from Panchmahal and could not verify the incomplete information that Panchmahal did provide, which is necessary for the margin analysis. See Preliminary Results. However, in the preliminary results, the Department inadvertently failed to corroborate the “all others” rate it applied to Panchmahal. We are correcting this oversight with the following.

Corroboration of the “All Others” Rate

Section 776(b) of the Act states that an adverse inference may include reliance on information derived from the petition. See also 19 CFR 351.308(c); Uruguay Round Agreement Act, Statement of Administrative Action (“SAA”) at 829-831. Section 776(c) of the Act provides that, when the Department relies on secondary information (such as the petition rates) as facts available, it must, to the extent practicable, corroborate that information from independent sources that are reasonably at its disposal. The SAA clarifies that “corroborate” means that the Department will satisfy itself that the secondary information to be used has probative value. See SAA at 870. To corroborate secondary information, the Department will, to the extent practicable, examine the reliability and relevance of the information used. See Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (November 6, 1996); Notice of Preliminary Determination of Sales at Less Than Fair Value and Postponement of Final Determination: Barium Carbonate From the People's Republic of China, 68 FR 12664 (March 17, 2003). The Department's regulations state that independent sources used to corroborate may include, but are not limited to, published price lists, official import statistics and customs data, and information obtained from interested parties during the particular review. See 19 CFR 351.308(d); SAA at 870. Further, in accordance with F. LII De Cecco Di Filippo Fara S. Martino S.p.A. v. United States, 216 F.3d 1027, 1034 (Fed. Cir. 2000), we examine whether information on the record supporting the selected adverse facts available is reasonable and has some basis in reality.

To assess the reliability of the petition margins for purposes of this review, in accordance with section 776(c) of the Act, we examined the key elements of the calculations of export price and normal value upon which the petitioner based its margins for the petition, to the extent practicable. See Certain Cut-to-Length Carbon Steel Plate from Mexico: Final Results of Antidumping Duty Administrative Review, 64 FR 76, 84 (January 4, 1999) (“CTL Plate from Mexico”).

The “all others” rate from the investigation, which we are using in this review as adverse facts available, is the average of the rates applied to each original respondent in the investigation. In the investigation, the Department applied the highest rate obtained from the petition margins to each respondent based upon a determination by the Department to use the best information available. See Final Determination of Sales at Less Than Fair Value: Certain Stainless Steel Wire Rods from India, 58 FR 54110, 54111 (October 20, 1993). In this case, the U.S. prices in the petition were based on quotes to U.S. customers which were obtained through market research. See Petition for the Imposition of Antidumping Duties, December 29, 1993. We were able to corroborate the U.S. prices in the petition, which were used as the basis of the 48.80 percent rate, by comparing these prices to publicly available information based on IM-145 import statistics from the U.S. International Trade Commission's web-site for HTS numbers 7221.00.0005, 7221.00.0015, 7221.00.0030, 7221.00.0045, and 7221.00.0075. We noted that the average reported customs unit value for these products for the period of December 1, 2000 through November 30, 2001 was lower than all of the U.S. prices cited in the petition, which ranged from $1.92 per kilogram to $2.51 per kilogram (Quoted Price) or $1.73 per kilogram to $2.36 per kilogram (Adjusted Price), thus corroborating the petition's U.S. price.

The normal values used in the petition were based on actual price quotations obtained through market research. The Department examined the normal values from the petition and attempted to corroborate the normal values used in the petition, which were based on actual price quotations obtained through market research. For a complete discussion of the Department's corroboration analysis for normal value, see Corroboration Memorandum for Panchmahal Steel Limited, for the final results of the 2000-2001 Administrative Review of Stainless Steel Wire Rods from India, from Stephen Bailey to The File, dated May 8, 2003. The parties did not present information during the course of this administrative review and the Department is not aware of other independent sources of information that would enable it to further examine the NV calculations in the petition.

With respect to the relevance aspect of corroboration, however, the Department will consider information reasonably at its disposal as to whether there are circumstances that would render data used as facts available not relevant. Where circumstances indicate that the selected data are not appropriate as adverse facts available, the Department will disregard the data and use alternate data as facts available. See Fresh Cut Flowers from Mexico: Preliminary Results and Termination in Part of Antidumping Duty Administrative Review, 60 FR 49577, 49579 (September 26, 1995), (where the Department disregarded the highest dumping margin as best information available because the margin was based on another company's uncharacteristic business expense resulting in an unusually high margin).

Furthermore, in corroborating the petition rate, in this review, we found that certain individual transactions from a particular company had margins higher than the petition rate.

Thus, we find that the 48.80 percent rate that the Department is using for this review does have probative value. This rate is relevant for Panchmahal because we are not aware of any circumstances that would render this rate inappropriate and there is nothing on the record of the petition or this administrative review which calls into question the validity of this rate.

The implementing regulation for section 776 of the Act, codified at 19 CFR 351.308(d), states, “(t)he fact that corroboration may not be practicable in a given circumstance will not prevent the Secretary from applying an adverse inference as appropriate and using the secondary information in question.” Additionally, the SAA at 870 states specifically that, where “corroboration may not be practicable in a given circumstance,” the Department may nevertheless apply an adverse inference. The SAA at 869 emphasizes that the Department need not prove that the facts available are the best alternative information. Therefore, based on our efforts, described above, to corroborate information contained in the petition and in accordance with 776(c) of the Act, we consider the margins in the petition to be corroborated to the extent practicable for purposes of this final determination. See CTL Plate from Mexico (regarding the normal values contained in the petition, although the Department was provided no useful information by the parties and was unaware of other independent sources of information that would permit further corroboration of the margin calculation in the petition, the Department found that their efforts corroborated information contained in the petition to the extent practicable).

Analysis of Comments Received

All issues raised in the case and rebuttal briefs by parties to this administrative review are addressed in the “Issues and Decision Memorandum” (“Decision Memorandum”) from Barbara Tillman, Acting Deputy Assistant Secretary, Import Administration, to Joseph A. Spetrini, Acting Assistant Secretary for Import Administration, dated May 8, 2003, which is hereby adopted by this notice. A list of the issues which parties have raised and to which we have responded, all of which are in the Decision Memorandum, is attached to this notice as an Appendix. Parties can find a complete discussion of all issues raised in this review and the corresponding recommendations in the Decision Memorandum, which is on file in the Central Records Unit, Room B-099 of the main Department building. In addition, a complete version of the Decision Memorandum can be accessed directly on the Web at http://ia.ita.doc.gov/frn/index.html. The paper copy and electronic version of the Decision Memorandum are identical in content.

Sales Below Cost

We disregarded sales that failed the cost test for Mukand and the Viraj Group during the course of the review. We initiated a sales below the cost of production investigation with respect to Panchmahal. See the Department's June 11, 2002 letter to Panchmahal initiating sales below cost of production investigation; Preliminary Results. However, because Panchmahal was unable to provide the Department with a complete cost database, the Department could not conduct the dumping analysis, including the sales below cost investigation. For a complete discussion of Panchmahal's incomplete cost information see Comment 1 of the Decision Memorandum.

Changes Since the Preliminary Results

Based on our analysis of comments received, we have made changes in the margin calculations for the Viraj Group and Mukand. The changes to the margin calculations are listed below:

The Viraj Group

• The Department has revised the Viraj Group's total cost of manufacturing to reflect the actual direct material cost incurred for purchasing billets. See Comment 12.

Mukand

• The Department reclassified some of Mukand's sales as agency sales. See Comment 2.

• The Department revised Mukand's interest expense ratio to exclude certain capitalized expenses related to the construction of a non-subject merchandise producing plant. See Comment 4.

• The Department revised Mukand's general and administrative expenses (“G&A”) ratio to exclude certain indirect selling expenses. As a result, the Department also recalculated Mukand's indirect selling expenses to account for the reclassification. See Comment 5.

• The Department revised Mukand's U.S. direct expenses to exclude certain taxes already reported as part of its direct material costs. See Comment 6.

• The Department revised Mukand's packing costs in order to account for an improper currency conversion in the preliminary margin calculation program. See Comment 8.

Final Results of Review

We determine that the following percentage margins exist for the period December 1, 2000, through November 30, 2001:

Producer/Manufacturer/Exporter | Weighted-­Average Margin
The Viraj Group | 3.25%
Mukand | 26.38%
Panchamahl | 48.80%

The Department shall determine, and U.S. Bureau of Customs and Border Protection (“BCBP”) shall assess, antidumping duties on all appropriate entries. In accordance with 19 CFR 351.212(b)(1), we have calculated exporter/importer (or customer)-specific assessment rates for merchandise subject to this review. The Department will issue appraisement instructions directly to the BCBP within 15 days of publication of these final results of review. We will direct the BCBP to assess the resulting assessment rates against the entered customs values for the subject merchandise on each of that importer's entries under the relevant order during the review period. For customer's duty-assessment purposes, we will calculate importer-specific assessment rates by dividing the dumping margins calculated for each importer by the total entered value of sales for each importer during the period of review.

Cash Deposit Requirements

The following deposit requirements will be effective upon publication of this notice of final results of administrative review for all shipments of stainless steel wire rods from India entered, or withdrawn from warehouse, for consumption on or after the date of publication, as provided by section 751(a)(1) of the Act: (1) The cash deposit rates for the Viraj Group, Mukand, and Panchmahal will be the rates shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in these or any previous reviews conducted by the Department, the cash deposit rate will be the “all others” rate, which is 48.80 percent.

These deposit requirements shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 777(i)(1) of the Act.

Dated: May 8, 2003.
Joseph A. Spetrini,
Acting Assistant Secretary for Import Administration.

Appendix 1

Issues in the Decision Memorandum

A. Issues with regard to Panchmahal

Comment 1: Facts Available

B. Issues with regard to Mukand

Comment 2: Agency Sales

Comment 3: Use of Facts Available

Comment 4: Interest Expense

Comment 5: Sales Overhead Expense

Comment 6: Treatment of Unrefunded Taxes

Comment 7: Import Duties

Comment 8: Packing Costs

C. Issues with regard to the Viraj Group

Comment 9: The Viraj Group's Cost Data

Comment 10: Collapsing the Viraj Group

Comment 11: Financial Expenses of the Viraj Group

Comment 12: Raw Material Cost

Comment 13: Non-Dumped Sales

Comment 14: Ministerial Errors

[FR Doc. 03-12186 Filed 5-14-03; 8:45 am]

BILLING CODE 3510-DS-S